DEPARTMENT OF COMMERCE

International Trade Administration

[A-412-803]

Industrial Nitrocellulose from the United Kingdom: Rescission of Antidumping Duty Administrative Review

AGENCY: Import Administration, International Trade Administration, Department of Commerce.

ACTION: Notice of Rescission of Antidumping Duty Administrative Review.

EFFECTIVE DATE: November 13, 2003.

FOR FURTHER INFORMATION CONTACT: Michele Mire or Howard Smith, AD/CVD Enforcement, Office 4, Group II, Import Administration, International Trade Administration, U.S. Department of Commerce, 14th Street and Constitution Avenue, NW., Washington, DC 20230; telephone: (202) 482-4711 and (202) 482-5193, respectively.

SUPPLEMENTARY INFORMATION:

Background

On July 2, 2003, the Department of Commerce (the Department) published a notice of opportunity to request an administrative review of the antidumping duty order on industrial nitrocellulose from the United Kingdom covering the period July 1, 2002 through June 30, 2003 (68 FR 39511, 39512).

On August 19, 2003, pursuant to a request by the petitioner, Green Tree Chemical Technologies, Inc. (Green Tree), the Department initiated an administrative review of Imperial Chemical Industries PLC (ICI) and Troon Investments Limited (TIL), which are subject to the antidumping duty order on industrial nitrocellulose from the United Kingdom, for the period July 1, 2002 through June 30, 2003. See Initiation of Antidumping and Countervailing Duty Administrative Reviews and Request for Revocation in Part, 68 FR 50750, 50752 (August 22, 2003). On October 31, 2003, Green Tree withdrew its request for an administrative review of ICI and TIL.

Rescission of Review

Section 351.213(d)(1) of the Department's regulations provides that a party that requests an administrative review may withdraw the request within 90 days after the date of publication of the notice of initiation of the requested administrative review. Since the notice of initiation of this administrative review was published on August 22, 2003, and Green Tree, the party requesting this administrative review, withdrew its request for review within 90 days after the date of publication of the notice of initiation, the Department is rescinding the administrative review of the antidumping duty order on industrial nitrocellulose from the United Kingdom for the period July 1, 2002 through June 30, 2003, in accordance with section 351.213(d)(1) of the Department's regulations.

This notice is in accordance with section 777(i)(1) of the Tariff Act of 1930, as amended, and section 351.213(d)(4) of the Department's regulations.

Dated: November 5, 2003.
Holly A. Kuga,
Acting Deputy Assistant Secretary, Group II for Import Administration.

[FR Doc. 03-28446 Filed 11-12-03; 8:45 am]

BILLING CODE 3510-DS-S